DEPARTMENT OF AGRICULTURE

Forest Service

Colville Resource Advisory Committee (RAC)

AGENCY: Forest Service, USDA.

ACTION: Notice of meeting.

SUMMARY: The Colville Resource Advisory Committee will meet on Thursday, July 17, 2003 at the Spokane Community College, Colville Campus, Monumental Room, 985 South Elm Street, Colville, Washington. The meeting will begin at 9 a.m. and conclude at 4 p.m. Agenda items include: (1) RAC review and recommendations of projects for Fiscal Year 2004 Title II Projects to Designated Federal Official and (2) public forum.

FOR FURTHER INFORMATION CONTACT: Direct questions regarding this meeting to Alan Quan, Designated Federal Official or to Cynthia Reichelt, Public Affairs Officer, Colville National Forest, 765 S. Main, Colville, Washington 99114, (509) 684-7000.

Dated: June 25, 2003.
Alan Quan,
Designated Federal Official.

[FR Doc. 03-16675 Filed 7-1-03; 8:45 am]

BILLING CODE 3410-11-M